FEDERAL RESERVE SYSTEM

Formations of, Acquisitions by, and Mergers of Bank Holding Companies; Correction

This notice corrects a notice (FR Doc. 67-2442) published on page 893 of the issue for Tuesday, January 8, 2002.

Under the Federal Reserve Bank of Dallas heading, the entry for Pubco Bancshares, Inc., Slaton, Texas, is revised to read as follows:

B. Federal Reserve Bank of Dallas (W. Arthur Tribble, Vice President) 2200 North Pearl Street, Dallas, Texas 75201-2272)

1. Lubco Bancshares, Inc., Slaton, Texas; to acquire 100 percent of the voting shares of Shamrock Bancshares, Inc., Shamrock, Texas, and thereby indirectly acquire voting shares of Shamrock Delaware Financial, Inc., Dover, Delaware, and First National Bank, Shamrock, Texas.

Comments on this application must be received by February 1, 2002.

Board of Governors of the Federal Reserve System, January 25, 2002.
Robert deV. Frierson,
Deputy Secretary of the Board.

[FR Doc. 02-2267 Filed 1-29-00; 8:45 am]

BILLING CODE 6210-01-S